ENVIRONMENTAL PROTECTION AGENCY

[CERCLA-02-2023-2004; FRL 10802-01-R2]

Proposed CERCLA Cost Recovery Settlement for the Gowanus Canal Superfund Site

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement (“Settlement”) pursuant to CERCLA with Paramount Global and Beam, Inc. (“Settling Parties”) for the Gowanus Canal Superfund Site (“Site”).

DATES: Comments must be submitted on or before May 26, 2023.

ADDRESSES: Requests for copies of the proposed Settlement and submission of comments must be via electronic mail. Comments should reference the Gowanus Canal Superfund Site, Index No. CERCLA-02-2023-2004. For those unable to communicate via electronic mail, please contact the EPA employee identified below.

FOR FURTHER INFORMATION CONTACT: Walter Sainsbury, Assistant Regional Counsel, Office of Regional Counsel, U.S. Environmental Protection Agency, 290 Broadway, 17th Floor, New York, NY 10007-1866. Email: sainsbury.walter@epa.gov, Telephone: 212-637-3177.

SUPPLEMENTARY INFORMATION: Notice is hereby given by EPA, Region 2, of a proposed cost recovery Settlement pursuant to CERCLA with the Settling Parties related to the Site, located in Brooklyn, New York.

The Settling Parties will pay a total of $912,568 ($534,917 from Beam, Inc. and $377,651 from Paramount Global) to the Gowanus Canal Special Account within the EPA Hazardous Substance Superfund (“Fund”) to be retained and used to conduct or finance response actions at or in connection with the Site, or to be transferred by EPA to the Fund. The Settling Parties are compensating EPA for a portion of the total Site costs plus a settlement premium. Payments by Settling Parties shall be made within thirty (30) days of the Effective Date of the Settlement. The Settlement includes a covenant by EPA not to sue or to take administrative action against the Settling Parties pursuant to Section 107(a) of CERCLA, 42 U.S.C. 9607(a), to recover EPA's response costs as provided in the Settlement. For thirty (30) days following the date of publication of this notice, EPA will receive written comments relating to the Settlement. EPA will consider all comments received and may modify or withdraw its consent to the Settlement if comments received disclose facts or considerations that indicate that the proposed Settlement is inappropriate, improper, or inadequate. EPA's response to any comments received will be available for public inspection online and/or at EPA Region 2, 290 Broadway, New York, New York 10007-1866.

The proposed Settlement is available for public inspection at https://semspub.epa.gov/src/document/02/654526.

Dated: April 4, 2023.
Pasquale Evangelista,
Director, Superfund & Emergency Management Division, Environmental Protection Agency, Region 2.

[FR Doc. 2023-08766 Filed 4-25-23; 8:45 am]

BILLING CODE 6560-50-P